DEPARTMENT OF LABOR

Occupational Safety and Health Administration

[Docket No. OSHA-2007-0043]

TUV SUD America, Inc.: Grant of Expansion of Recognition and Modification to the NRTL Program's List of Appropriate Test Standards

AGENCY: Occupational Safety and Health Administration (OSHA), Labor.

ACTION: Notice.

SUMMARY: In this notice, OSHA announces the final decision to expand the scope of recognition of TUV SUD America, Inc. (TUVAM) as a Nationally Recognized Testing Laboratory (NRTL). Additionally, OSHA announces the final decision to add one test standard to the NRTL Program's List of Appropriate Test Standards.

DATES: The expansion of the scope of recognition becomes effective on August 24, 2021.

FOR FURTHER INFORMATION CONTACT: Information regarding this notice is available from the following sources:

Press inquiries: Contact Mr. Frank Meilinger, Director, OSHA Office of Communications, U.S. Department of Labor by phone (202) 693-1999 or email meilinger.francis2@dol.gov.

General and technical information: Contact Mr. Kevin Robinson, Director, Office of Technical Programs and Coordination Activities, Directorate of Technical Support and Emergency Management, Occupational Safety and Health Administration, U.S. Department of Labor by phone (202) 693-2110 or email robinson.kevin@dol.gov.

SUPPLEMENTARY INFORMATION:

I. Notice of the Applications for Expansion

OSHA hereby gives notice of the extension of the scope of recognition of TUV SUD America, Inc. (TUVAM) as a NRTL. TUVAM's expansion covers the addition of eighteen test standards to its NRTL scope of recognition. OSHA also hereby gives notice that it is adding one test standard to the NRTL Program's List of Appropriate Test Standards.

OSHA recognition of a NRTL signifies that the organization meets the requirements specified by 29 CFR 1910.7. Recognition is an acknowledgment that the organization can perform independent safety testing and certification of the specific products covered within the scope of recognition and is not a delegation or grant of government authority. As a result of recognition, employers may use products properly approved by the NRTL to meet OSHA standards that require testing and certification of the products.

The agency processes applications by NRTLs or applicant organizations for initial recognition, as well as for expansion or renewal of recognition, following requirements in Appendix A, 29 CFR 1910.7. This appendix requires that the agency publish two notices in the Federal Register in processing an application. In the first notice, OSHA announces the application and provides its preliminary finding. In the second notice, the agency provides the final decision on the application. These notices set forth the NRTL's scope of recognition or modifications of that scope. OSHA maintains an informational web page for each NRTL, including TUVAM, which details that NRTL's scope of recognition. These pages are available from the OSHA website at: http://www.osha.gov/dts/otpca/nrtl/index.html.

TUVAM submitted an application, dated June 8, 2020 (OSHA-2007-0043-0036), to expand its recognition to include six additional test standards. Additionally, TUVAM submitted an application on May 19, 2015 (OSHA-2007-0043-0020) to expand its recognition to include two additional recognized test sites and twelve additional test standards. However, due to an omission, OSHA did not rule on the May 19, 2015 application to the extent TUVAM applied to expand its recognition to include the twelve additional test standards (82 FR 13143, March 9, 2017; 82 FR 28359, June 21, 2017). Those twelve standards are included in this notice. Therefore, the expansion announced in this notice covers eighteen standards, including one which OSHA proposes to add to the NRTL Program's List of Appropriate Test Standards. OSHA staff performed a detailed analysis of both application packets and reviewed other pertinent information. OSHA did not perform any on-site reviews in relation to these applications insofar as the applications sought expansions of recognition to include the eighteen additional test standards.

OSHA published the preliminary notice announcing TUVAM's expansion applications in the Federal Register on July 2, 2021 (86 FR 35347). The agency requested comments by July 19, 2021, but it received no comments in response to this notice. OSHA now is proceeding with this final notice to grant expansion of TUVAM's scope of recognition.

To review copies of all public documents pertaining to TUVAM's applications, go to http://www.regulations.gov or contact the Docket Office, Occupational Safety and Health Administration, U.S. Department of Labor, at (202) 693-2350. Docket No. OSHA-2007-0043 contains all materials in the record concerning TUVAM's recognition.

II. Final Decision and Order

OSHA staff examined TUVAM's expansion applications, the capability to meet the requirements of the test standards, and other pertinent information. Based on a review of this evidence, OSHA finds that TUVAM meets the requirements of 29 CFR 1910.7 for expansion of recognition, subject to the specified limitations and conditions listed. OSHA, therefore, is proceeding with this final notice to grant expansion of TUVAM's scope of recognition. OSHA limits the expansion of TUVAM's scope of recognition to testing and certification of products for demonstration of conformance to the test standards listed in Table 1.

Table 1—List of Appropriate Test Standards for Inclusion in TUVAM's NRTL Scope of Recognition
Test standard | Test standard title
* UL 347A | Medium Voltage Power Conversion Equipment.
UL 1004-1 | Rotating Electrical Machines—General Requirements.
UL 2594 | Standard for Electric Vehicle Supply Management.
UL 61010-2-030 | Safety Requirements for Electrical Equipment for Measurement, Control and Laboratory Use—Part 2-030: Particular Requirements for Testing and Measuring Circuits.
UL 61010-2-81 | Standard for Safety Requirements for Electrical Equipment for Measurement, Control and Laboratory Use—Part 2-081: Particular Requirements for Automatic and Semi-Automatic Laboratory Equipment for Analysis and Other Purposes.
UL 61010-2-101 | Safety Requirements for Electrical Equipment for Measurement, Control and Laboratory Use—Part 2-101: Particular Requirements for In Vitro Diagnostic (IVD) Medical Equipment.
UL 122 | Photographic Equipment.
UL 153 | Portable Electric Luminaires.
UL 429 | Electrically Operated Valves.
UL 1776 | High-Pressure Cleaning Machines.
UL 60730-1A | Automatic Electrical Controls for Household and Similar Use; Part 1: General Requirements.
UL 60730-2-7 | Automatic Electrical Controls for Household and Similar Use; Part 2: Particular Requirements for Timers and Time Switches.
UL 60730-2-10A | Automatic Electrical Controls for Household and Similar Use; Part 2: Particular Requirements for Motor Starting Relays.
UL 60730-2-11A | Automatic Electrical Controls for Household and Similar Use; Part 2: Particular Requirements for Energy Regulators.
UL 60730-2-12A | Automatic Electrical Controls for Household and Similar Use; Part 2: Particular Requirements for Electrically Operated Door Locks.
UL 60730-2-13A | Automatic Electrical Controls for Household and Similar Use; Part 2: Particular Requirements for Humidity Sensing Controls.
UL 60730-2-14 | Automatic Electrical Controls for Household and Similar Use; Part 2: Particular Requirements for Electric Actuators.
UL 60730-2-16A | Automatic Electrical Controls for Household and Similar Use; Part 2: Particular Requirements for Automatic Electrical Water Level Controls.
* Represents Test Standard new to the NRTL Program.

OSHA also announces the addition of one new test standard to the NRTL Program's List of Appropriate Test Standards. Table 2, below, lists the test standard that is new to the NRTL Program. OSHA has determined that this test standard is an appropriate test standard.

Table 2—Test Standard OSHA Is Adding to the NRTL Program's List of Appropriate Test Standards
Test standard | Test standard title
UL 347A | Medium Voltage Power Conversion Equipment.

OSHA's recognition of any NRTL for a particular test standard is limited to equipment or materials for which OSHA standards require third-party testing and certification before using them in the workplace. Consequently, if a test standard also covers any products for which OSHA does not require such testing and certification, a NRTL's scope of recognition does not include these products.

A. Conditions

Recognition is contingent on continued compliance with 29 CFR 1910.7, including, but not limited to, abiding by the following conditions of recognition:

1. TUVAM must inform OSHA as soon as possible, in writing, of any change of ownership, facilities, or key personnel, and of any major change in the operations as a NRTL, and provide details of the change(s);

2. TUVAM must meet all the terms of its recognition and comply with all OSHA policies pertaining to this recognition; and

3. TUVAM must continue to meet the requirements for recognition, including all previously published conditions on TUVAM's scope of recognition, in all areas for which it has recognition.

OSHA hereby expands the scope of recognition of TUVAM, subject to the limitation and conditions specified above.

IV. Authority and Signature

James S. Frederick, Acting Assistant Secretary of Labor for Occupational Safety and Health, 200 Constitution Avenue NW, Washington, DC 20210, authorized the preparation of this notice. Accordingly, the agency is issuing this notice pursuant to Section 29 U.S.C. 657(g)(2), Secretary of Labor's Order No. 8-2020 (85 FR 58393; Sept. 18, 2020), and 29 CFR 1910.7.

Signed at Washington, DC, on August 17, 2021.
James S. Frederick,
Acting Assistant Secretary of Labor for Occupational Safety and Health.

[FR Doc. 2021-18143 Filed 8-23-21; 8:45 am]

BILLING CODE 4510-26-P